DEPARTMENT OF DEFENSE

Department of the Navy

Meeting of the Marine Corps University Board of Visitors

AGENCY: Department of the Navy, DoD.

ACTION: Notice of open meeting.

SUMMARY: The DoD is publishing this notice to announce that the following Federal Advisory Committee meeting of the Marine Corps University Board of Visitors, hereafter, “Board” will take place.

DATES: Open to the public, Thursday, April 2, 2020, from 9:00 a.m. to 5:00 p.m., and Friday, April 3, 2020, from 9:45 a.m. to 11:00 a.m.

ADDRESSES: The meeting will be held at 2076 South St., Quantico VA, 22134. Registration may be required.

FOR FURTHER INFORMATION CONTACT: ADFO Dr. Kimberly Florich, Faculty Development and Outreach, kimberly.florich@usmcu.edu. 703-432-4837, 2076 South St., Quantico, VA 22134.

SUPPLEMENTARY INFORMATION: This meeting is being held under the provisions of the Federal Advisory Committee Act (FACA) of 1972 (5 U.S.C., Appendix, as amended), the Government in the Sunshine Act of 1976 (5 U.S.C. 552b, as amended), the General Services Administration's (GSA) Federal Advisory Committee Management Final Rule (41 CFR part 102-3).

Purpose of Meeting: The purpose of the Board is to provide the Secretary of Defense and/or the Deputy Secretary of Defense, through the Secretary of the Navy, independent advice and recommendations on matters pertaining to:

a. U.S. Marine Corps Professional Military Education;

b. all aspects of the academic and administrative policies of the University;

c. higher educational standards and cost effective operations of the University; and

d. the operation and accreditation of the National Museum of the Marine Corps.

Agenda: The meeting is open to the public on both days. Known times and topics are as follows:

Thursday, April 2, 2020

0900-0930: Meeting Called to Order (DFO)

0920-1020: Discussion with CLO

1015-1115: Fellows PME TLS Assessment Update

1100-1230: BREAK

1230-1315: Naval Fellows Discussion

1315-1400: Presidential Stability

1400-1415: BREAK

1415-1500: Wargaming Usage: Case Study Update

1500-1600: E4S Naval Community College Update

1600-1615: BREAK

1615-1700: MILFAC Promotion Rate Data

1700: Meeting Adjourns (DFO)

Friday, 3 April, 2020

0945: Call to Order (DFO)

0945-1045: Discussion/BOV Recommendations

1100: Meeting Adjourns (DFO)

The most recent public agenda and other documentation may be obtained on the FACA Database.

Meeting Accessibility: Pursuant to FACA and 41 CFR 102-3.140, this meeting is open to the public. Seating is limited and is on a first-come basis. All members of the public who wish to attend the public meeting must contact Dr. Kimberly Florich at the email or telephone number listed in Contact Information section no later than March 15, 2020 COB to register and make arrangements for an escort, if necessary. Individuals requiring special accommodations to access the public meeting should contact Dr. Kimberly Florich at least 17 business days prior to the meeting so that appropriate arrangements can be made.

Written Statements: In accordance with Section 10(a)(3) of the FACA and 41 CFR 102-3.105(j) and 102-3.140, interested persons may submit a written statement for consideration at any time, but should be received by the Alternate Designated Federal Officer (ADFO) a least 10 business days prior to the meeting date so that the comments may be made available to the Board for their consideration prior to the meeting. Written statements should be submitted via email to kimberly.florich@usmcu.edu in either Adobe or Microsoft Word format. Please note that since the Board operates under the provisions of the FACA, as amended, all submitted comments and public presentations will be treated as public documents and will be made available for public inspection, including, but not limited to, being posted on the board website.

Dated: March 10, 2020.
D.J. Antenucci,
Commander, Judge Advocate General's Corps, U.S. Navy, Federal Register Liaison Officer.

[FR Doc. 2020-05160 Filed 3-12-20; 8:45 am]

BILLING CODE 3810-FF-P